DEPARTMENT OF THE INTERIOR

Fish and Wildlife Service

50 CFR Part 17

[Docket No. FWS-R4-ES-2023-0065; FF09E21000 FXES1111090FEDR 234]

RIN 1018-BG18

Endangered and Threatened Wildlife and Plants; Threatened Species Status With Section 4(d) Rule for Brawleys Fork Crayfish and Designation of Critical Habitat

Correction

In proposed rule document 2023-17666 appearing on pages 57292-57327 in the issue of Tuesday, August 22, 2023, make the following correction:

On page 57301, beginning at the top of the page, Figure 1 is corrected to appear as set forth below:

BILLING CODE 0099-10-P

Figure 1: Current resiliency for the five delineated analysis units for Brawleys Fork crayfish. The two central units (East Fork Stones River Hollis Creek and Brawleys Fork) exhibit moderate current resiliency and the western unit (West Fork Stones River Lower), and eastern units (Mountain Creek and Bullpen Creek) exhibit low current resiliency.

[FR Doc. C1-2023-17666 Filed 9-7-23; 8:45 am]

BILLING CODE 0099-10-C